DEPARTMENT OF JUSTICE

Notice of Lodging of Partial Consent Decree; Under the Comprehensive Environmental Response, Compensation and Liability Act, 42 U.S.C. 9601 et seq.

Notice is hereby given that on October 4, 2002, a proposed partial consent decree (“consent decree”) in United States vs. Brighton Township, Civil Action No. 94-CV-75289-DT, was lodged with the United States District Curt for the Eastern District of Michigan.

In this action the United States sought recovery, under section 107(a) of the Comprehensive Environmental Response, Compensation and Liability Act (“CERCLA”), 42 U.S.C. 9607(a), of response costs incurred in connection with a property formerly operated as a dump or disposal area on Corlett Road in Brighton Township, Livingston County, Michigan (“Site”). The consent decree resolves the United States' claims against Brighton Township, which is alleged to be liable as a result of having operated the Site. The consent decree recovers $595,000 in response costs relating to the site.

The Department of Justice will receive comments relating to the proposed consent decree for a period of thirty (30) days from the date of this publication. Comments should be addressed to the Assistant Attorney General, Environment and Natural Resources Division, Department of Justice, PO Box 7611, Washington, DC 20044-7611, and should refer to United States v. Brighton Township, D.J. Ref. No. 905-1-1-5073.

The proposed consent decree may be examined at the Office of the United States Attorney, 211 West Fort Street, Suite 2300, Detroit, Michigan. A copy of the proposed consent decree may be obtained by mail from the Department of Justice Consent Decree Library, PO Box 7611, Washington, DC 20044-7611 or by faxing a request to Tonia Fleetwood, fax no. (202) 514-0097. In requesting a copy, please enclose a check payable to the “U.S. Treasury”, in the amount of $4.00 (25 cents per page reproduction cost). The check should refer to United States v. Brighton Township, D.J. Ref. No. 90-5-1-1-5073.

W. Benjamin Fisherow,
Deputy Chief, Environmental Enforcement Section, Environment and Natural Resources Division.

[FR Doc. 02-26505 Filed 10-17-02; 8:45 am]

BILLING CODE 4410-15-M